DEPARTMENT OF COMMERCE

International Trade Administration

Notice of Rescission of Antidumping and Countervailing Duty Administrative Reviews; Correction

AGENCY: Enforcement and Compliance, International Trade Administration, Department of Commerce.

ACTION: Notice; correction.

SUMMARY: The U.S. Department of Commerce (Commerce) published a notice of rescission of antidumping and countervailing duty administrative reviews in the Federal Register of December 8, 2025, in which Commerce inadvertently listed the wrong case number for the antidumping duty order on Passenger Vehicle and Light Truck Tires from Taiwan (A-583-869).

FOR FURTHER INFORMATION CONTACT: Brenda E. Brown, Office of AD/CVD Operations, Customs Liaison Unit, Enforcement and Compliance, International Trade Administration, U.S. Department of Commerce, 1401 Constitution Avenue NW, Washington, DC 20230, telephone: (202) 482-4735.

SUPPLEMENTARY INFORMATION:

Background

On December 8, 2025, Commerce published in the Federal Register the Notice of Rescission of Antidumping and Countervailing Duty Administrative Reviews.¹ We inadvertently listed the wrong case number for the antidumping duty order on Passenger Vehicle and Light Truck Tires from Taiwan.

¹ See Rescission of Antidumping and Countervailing Duty Administrative Reviews, 90 FR 56724 (December 8, 2025).

Correction

In the Federal Resister of December 8, 2025, in FR Doc. 2025-22200, on page 56725, in the table, list the case number for Taiwan: Passenger Vehicle and Light Truck Tires as (A-583-869). This serves as a correction notice.

Notification to Interested Parties

This notice is issued and published in accordance with section(s) 751(a)(1) and 777(i)(1) of the Tariff Act of 1930, as amended, and 19 CFR 351.213(d)(4).

Dated: December 17, 2025.
Scot Fullerton,
Acting Deputy Assistant Secretary for Antidumping and Countervailing Duty Operations.

[FR Doc. 2025-23457 Filed 12-18-25; 8:45 am]

BILLING CODE 3510-DS-P